Proclamation 8671 of May 6, 2011

Mother’s Day, 2011

By the President of the United States of America

A Proclamation

As our society has changed, so have the challenges facing women raising families. Many American women are raising children at home while caring for an elderly parent, holding down two jobs, serving as the sole parent in a family, or defending our country overseas as a service member. Our Nation’s mothers not only look after our needs and teach us to be compassionate and responsible, but also manage households, build careers, and improve our neighborhoods and communities. While the roles and responsibilities of mothers have evolved, their guidance and care remains as strong and constant as ever.

On Mother’s Day, we celebrate the extraordinary importance of mothers in our lives. The bond of love and dedication a mother shares with her children and family is without bounds or conditions. Whether an adoptive mom or grandmother, mother or partner, the women who raise us show us that no hurdle is too high, and no dream is beyond our reach. As sons and daughters, we show our gratitude for the women in our lives who care for us, shape our values, and set us on the path to a limitless future.

Throughout our history, mothers have made remarkable sacrifices for the well-being of their loved ones. Nearly a century ago, Anna Jarvis, who had suffered the loss of her beloved mother, campaigned with many other Americans to make Mother’s Day a recognized holiday and pay respect to all women raising children. Today, we continue to celebrate the influence, love, and nurturing our mothers provide in our lives and in our national life.

To support the parents who are raising tomorrow’s leaders, my Administration is committed to doing all we can to create jobs and economic opportunities for families across America. We are striving to help mothers in the workplace by enforcing equal pay laws and addressing workplace flexibility as families balance the demands of work, child and elder care, and education. My budget strengthens the Child and Dependent Care Tax Credit to help families afford the cost of quality childcare. The tax-cut package we passed last December extended expansions of the Child Tax Credit and Earned Income Tax Credit, providing a tax cut for 15.7 million families with about 29.1 million children. The Affordable Care Act gives women more access to health care and better resources to protect the health of their families by requiring new insurance plans to cover wellness benefits for children, ending the exclusion of pre-existing conditions by insurance companies, and extending parents’ health coverage for young adults up to age 26. First Lady Michelle Obama’s “Let’s Move!” initiative is also providing mothers with helpful tools to support their children’s healthy growth.

Mothers are the rocks of our families and a foundation in our communities. In gratitude for their generous love, patient counsel, and lifelong support, let us pay respect to the women who carry out the hard work of motherhood with skill and grace, and let us remember those mothers who, though no longer with us, inspire us still.

The Congress, by a joint resolution approved May 8, 1914, (38 Stat. 770), has designated the second Sunday in May each year as “Mother’s Day” and requested the President to call for its appropriate observance.

NOW, THEREFORE, I, BARACK OBAMA, President of the United States of America, do hereby proclaim May 8, 2011, as Mother’s Day. I urge all Americans to express their love, respect, and gratitude to mothers everywhere, and I call upon all citizens to observe this day with appropriate programs, ceremonies, and activities.

IN WITNESS WHEREOF, I have hereunto set my hand this sixth day of May, in the year of our Lord two thousand eleven, and of the Independence of the United States of America the two hundred and thirty-fifth.

[FR Doc. 2011-11749

Filed 5-10-11; 11:15 am]

Billing code 3195-W1-P